DEPARTMENT OF THE INTERIOR

Bureau of Land Management

[AZ-020-00-1610-DH]

Notice of Availability (NOA) of the Finding of No Significant Impacts (FONSI) and the Proposed Lower Gila Resource Planning Area Amendment (Proposed Plan) and Final Environmental Assessment to the Lower Gila North Management Framework Plan and the Lower Gila South Resource Management Plan, La Paz, Yuma, Yavapai, Maricopa, Pinal and Pima Counties, Arizona

AGENCY: Bureau of Land Management (BLM), Interior.

ACTION: Notice.

SUMMARY: The BLM, in response to the need to resolve pertinent issues and to enhance management of critical resources, has prepared a FONSI and proposed plan in compliance with the Federal Land Policy and Management Act of 1976, as amended, and section 102(2)(c) of the National Environmental Policy Act of 1969. An analysis of potential environmental impacts found that impacts would not be significant leading to a FONSI. Because of the FONSI, an environmental impact statement is not required to support the proposed plan.

DATES: Protests on the proposed plan must be postmarked no later than March 29, 2000.

ADDRESSES: Protests on the proposed plan must be sent to the Director (210), BLM Planning, Assessment & Community Support Group, 1849 C Street NW, MS: 1050-LS/BLM, Washington, D.C. 20240.

FOR FURTHER INFORMATION CONTACT: Hector Abrego, Team Leader, BLM, Phoenix Field Office, 2015 West Deer Valley Road, Phoenix, AZ 85027 or telephone (623) 580-5500.

SUPPLEMENTARY INFORMATION: Description of the proposed action: Establishes five well-blocked public land management areas for long-term management of resources and public land uses. Land tenure adjustment: Identifies approximately 34,100 acres available for disposal, establishes guidelines for acquisition of high resource value lands, allows for exchanges within management areas for repositioning lands with high resource values and establishes the framework to dispose of federal minerals under nonfederal surface estate and to acquire nonfederal minerals estate under federal surface estate. Desert tortoise habitat management: Standardizes habitat management by incorporating the goals and objectives in “Desert Tortoise Habitat Management on Public Lands: a Rangewide Plan” (BLM 1988) and “Strategy for Desert Tortoise Habitat Management on Public Lands in Arizona” (BLM 1990). Desert bighorn sheep augmentation and reestablishment: Expands areas where sheep augmentation and reestablishment may occur on a case-by-case basis. Wild horse and burro management: Establishes the Harquahala, Little Harquahala and Painted Rock herd areas as herd management areas. These areas, along with the existing Alamo Herd Management Area, will be managed to support populations of wild burros in a thriving natural ecological balance. Recreation management: Provides for resource-based recreational opportunities which range from recreational site facilities to remote primitive areas, establishes off-highway and special recreation vehicle designations and management, designates special recreation management areas, establishes camping stay limits and establishes guidance to address special uses and scarce opportunities. Oil and gas development: Establishes an orderly oil and gas exploration and development process and identifies 375,000 acres of wilderness as closed to oil and gas leasing.

Alternatives analyzed: A no action—current guidance alternative was analyzed in the plan amendment. Under this alternative, management of the six issues would remain status quo. No management areas would be established. Land tenure adjustment: Approximately 62,260 acres would remain available for disposal and approximately 10,735 acres of state lands are identified for acquisition. Desert tortoise habitat management: Management would be guided through “Desert Tortoise Habitat Management on Public Lands: A Rangewide Plan” (BLM 1988) and “Strategy for Desert Tortoise Habitat Management on Public Lands in Arizona” (BLM 1990). Desert bighorn sheep augmentation and reestablishment: Reestablishment could occur only in the Black Mountains and augmentations would be authorized on a case-by-case basis. Wild horse and burro management: Continue managing burros and related issues on a case-by-case basis within the Harquahala, Little Harquahala and Painted Rocks herd areas. Burros in the Alamo Herd Management Area would be managed using valid existing decisions. Recreation management: The 14-day camping stay will remain in effect and off-highway vehicles in Lower Gila North will remain undesignated (except for wildernesses, which are closed), off-highway vehicles in Lower Gila South will remain designated as limited to existing and/or designated roads, trails and vehicle routes and off-highway vehicles in the Barry M. Goldwater Range will remain limited to designated routes. Oil and gas development: Public requests for oil and gas exploration or development leases would be handled on a case-by-case basis and require a plan amendment for each request.

The proposed plan has a 30-day protest period as required by BLM planning regulations (43 CFR 1610.5-2). Any person who participated in this process and has an interest that may be adversely affected by the proposed decision may submit a protest. Following the protest resolution and the Governor's consistency review, the proposed plan will be approved and implemented. A decision record which documents the BLM's decision will become available.

Public reading copies may be reviewed at the following BLM locations:

1. Phoenix Field Office, 2015 West Deer Valley Road, Phoenix, Arizona;

2. Arizona State Office, Public Room, 222 North Central Avenue, Phoenix, Arizona.

Dated: January 20, 2000.
Michael A. Taylor,
Field Manager.

[FR Doc. 00-3266 Filed 2-25-00; 8:45 am]

BILLING CODE 4310-32-P